POSTAL SERVICE

39 CFR Part 111

OEL and Carrier Route Information Lines

AGENCY: Postal Service™.

ACTION: Final rule.

SUMMARY: The Postal Service is amending Mailing Standards of the United States Postal Service, Domestic Mail Manual (DMM®) to revise the requirements for using optional endorsement lines or carrier route information lines on USPS Marketing Mail carrier route letters.

DATES: Effective: January 19, 2025.

FOR FURTHER INFORMATION CONTACT: Dale Kennedy at (202) 268-6592 or Doriane Harley at (202) 268-2537.

SUPPLEMENTARY INFORMATION: The Postal Service will revise the standards in DMM section 203.8.1 to require optional endorsement lines or carrier route information lines on all USPS Marketing Mail carrier route letters to become effective on January 19, 2025.

Comments on Proposed changes and USPS responses:

The Postal Service received one formal comment on the June 28, 2024 proposed rule.

• Commenter expressed concerns related to costs to implement this change by the proposed effective date. The Postal Service has decided to delay the implementation date of this change to become effective on January 19, 2025.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

* * * * *

203 Basic Postage Statement, Documentation, and Preparation Standards

* * * * *

8.0 Carrier Route Information Lines

8.1 Basic Information

[Revise the text of 8.1 to read as follows:]

Mailers must prepare bundles of all mailpieces mailed at carrier route prices with optional endorsement lines under 7.0, carrier route information lines under 8.2, or facing slips (see 203.4.0). Mailers must use optional endorsement lines or carrier route information lines on all pieces in mailings of USPS Marketing Mail letters prepared under 245.6.7 and 245.6.10.

* * * * *

Colleen Hibbert-Kapler,
Attorney, Ethics and Legal Compliance.

[FR Doc. 2024-21119 Filed 9-16-24; 8:45 am]

BILLING CODE 7710-12-P